DEPARTMENT OF JUSTICE

Notice of Lodging Proposed Consent Decree Under the Comprehensive Environmental Response, Compensation and Liability Act (CERCLA)

Notice is hereby given that on August 25, 2006, a proposed Consent Decree was lodged in U.S. v. Government of the Virgin Islands, Civil No. 2006-139-CVG (D.V.I.). The proposed Consent Decree resolves the liability of the Government of Virgin Islands under Section 107 of CERCLA related to the response costs of the U.S. Environmental Protection Agency for the Virgin Islands Department of Health Site, Charlotte Amalie, St. Thomas; the Virgin Islands Sub Base Site, St. Thomas; and the Virgin Islands Department of Agriculture Site, St. Croix. The United States alleges that the Government of Virgin Islands is liable as an owner and operator under Section 107(a)(1) and (2) of CERCLA, 42 U.S.C. 9607(a)(1) and (2). Under the settlement, the Government agrees to pay $354,500 of EPA's response costs, along with interest since December 1, 2005.

The Department of Justice will receive for a period of thirty (30) days from the date of this publication comments relating to the proposed Consent Decree. Comments should be addressed to the Assistant Attorney General, Environment and Natural Resources Division, P.O. Box 7611, U.S. Department of Justice, Washington, DC 20044-7611, and should refer to U.S. v. Government of the Virgin Islands, Civil No. 2006-139-CVG (D.V.I.), D.J. Ref #90-11-3-07531.

The proposed Consent Decree may be examined at the Office of the United States Attorney, 5500 Veterans Drive, Suite 260, St. Thomas, Virgin Islands 00802, and at U.S. EPA, Region II, 290 Broadway, New York, NY 10007-1866. During the public comment period, the proposed Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.00 (25 cents per page reproduction cost) payable to the U.S. Treasury.

Ronald G. Gluck,
Assistant Chief, Environmental, Enforcement Section, Environment and Natural Resources Division.

[FR Doc. 06-7514 Filed 9-7-06; 8:45 am]

BILLING CODE 4410-15-M